FEDERAL ELECTION COMMISSION

Sunshine Act Meeting

PREVIOUSLY ANNOUNCED DATE AND TIME: Thursday, March 16, 2000 10:00 a.m., MEETING OPEN TO THE PUBLIC

The following items were added to the agenda:

Revised Draft Advisory Opinion 1999-40: National Rural Electric Cooperative Association.

Revised Draft Advisory Opinion 2000-03: American Society of Anesthesiologists.

DATE AND TIME: Tuesday, March 21, 2000, 10:00 a.m.

PLACE: 999 E Street, N.W., Washington, D.C.

STATUS: This meeting will be closed to the public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE AND TIME: Thursday, March 23, 2000, at 10:00 a.m.

PLACE: 999 E Street, N.W., Washington, D.C. (Ninth Floor).

STATUS: This meeting will be closed to the public.

ITEMS TO BE DISCUSSED: Correction and Approval of Minutes.

Administrative Matters.

PERSON TO CONTACT FOR INFORMATION: Mr. Ron Harris, Press Officer, Telephone: (202) 694-1220.

Mary W. Dove,
Acting Secretary of the Commission.

[FR Doc. 00-6720 Filed 3-14-00; 3:33 pm]

BILLING CODE 6715-01-M